DEPARTMENT OF HOMELAND SECURITY

Coast Guard

33 CFR Part 165

[Docket No. USCG-2018-0624]

Safety Zones; Annual Events in the Captain of the Port Buffalo Zone—July Fireworks

AGENCY: Coast Guard, DHS.

ACTION: Notice of enforcement of regulation.

SUMMARY: The Coast Guard will enforce certain safety zones located in federal regulations for recurring marine events. This action is necessary and intended for the safety of life and property on navigable waters during these events. During each enforcement period, no person or vessel may enter the respective safety zone without the permission of the Captain of the Port Buffalo.

DATES: The regulations in 33 CFR 165.939(a)(1) will be enforced from 8:45 p.m. to 10:45 p.m. on July 4, 2018. The regulations in 33 CFR 165.939(a)(2) will be enforced from 9:30 p.m. to 10:30 p.m. on July 3, 2018. The regulation in 33 CFR 165.939(a)(13) will be enforced from 10:00 p.m. to 10:30 p.m. on July 3, 2018.

FOR FURTHER INFORMATION CONTACT: If you have questions about this notice of enforcement, call or email LT Michael Collet, Chief of Waterways Management, U.S. Coast Guard Sector Buffalo; telephone 716-843-9322, email D09-SMB-SECBuffalo-WWM@uscg.mil.

SUPPLEMENTARY INFORMATION: The Coast Guard will enforce a Safety Zone; Annual Events in the Captain of the Port Buffalo Zone listed in 33 CFR 165.939 for the following events:

(1) Boldt Castle 4th of July Fireworks, Heart Island, NY; The safety zone listed in 33 CFR 165.939(a)(1) will be enforced from 8:45 p.m. to 10:45 p.m. on July 4, 2018.

(2) Clayton Chamber of Commerce Fireworks, Calumet Island, NY; The safety zone listed in 33 CFR 165.939(a)(2) will be enforced from 9:30 p.m. to 10:30 p.m. on July 3, 2018.

(3) Tom Graves Memorial Fireworks; The safety zone listed in 33 CFR 165.939(a)(13) will be enforced from 10:00 p.m. to 10:30 p.m. on July 3, 2018.

Pursuant to 33 CFR 165.23, entry into, transiting, or anchoring within a safety zone during an enforcement period is prohibited unless authorized by the Captain of the Port Buffalo or his designated representative. Those seeking permission to enter a safety zone may request permission from the Captain of Port Buffalo via channel 16, VHF-FM. Vessels and persons granted permission to enter a safety zone shall obey the directions of the Captain of the Port Buffalo or his designated representative. While within a safety zone, all vessels shall operate at the minimum speed necessary to maintain a safe course.

This notice of enforcement is issued under authority of 33 CFR 165.939 and 5 U.S.C. 552(a). In addition to this notice of enforcement in the Federal Register, the Coast Guard will provide the maritime community with advance notification of this enforcement period via Broadcast Notice to Mariners or Local Notice to Mariners. If the Captain of the Port Buffalo determines that a safety zone need not be enforced for the full duration stated in this notice he or she may use a Broadcast Notice to Mariners to grant general permission to enter the respective safety zone.

Dated: June 27, 2018.
Joseph S. Dufresne,
Captain, U.S. Coast Guard, Captain of the Port Buffalo.

[FR Doc. 2018-14326 Filed 7-2-18; 8:45 am]

BILLING CODE 9110-04-P